SECURITIES AND EXCHANGE COMMISSION

Sunshine Act Meeting; Notice

Federal Register Citation of Previous Announcement: [67 FR 22471, May 3, 2002].

Status: Open meeting.

Place: 450 Fifth Street, NW., Washington, DC.

Date and Time of Previously Announced Meeting: Wednesday, May 8, 2002, at 9:30 a.m.

Change in the Meeting: Deletion of item.

The following item will not be considered at the open meeting scheduled for Wednesday, May 8, 2002: The Commission will not hear oral argument on an appeal by Daniel R. Lehl, et al., from the decision of an administrative law judge.

At times, changes in Commission priorities require alterations in the scheduling of meeting items. For further information and to ascertain what, if any, matters have been added, deleted or postponed, please contact:

The Office of the Secretary at (202) 942-7070.

Dated: May 7, 2002.
Margaret H. McFarland,
Deputy Secretary.

[FR Doc. 02-11875 Filed 5-8-02; 12:09 pm]

BILLING CODE 8010-01-P